DEPARTMENT OF COMMERCE

International Trade Administration

[A-570-848]

Freshwater Crawfish Tail Meat From the People's Republic of China: Partial Rescission of Antidumping Duty Administrative Review and Rescission of New Shipper Review; 2012-2013

AGENCY: Enforcement and Compliance, International Trade Administration, Department of Commerce.

SUMMARY: The Department of Commerce (the Department) is partially rescinding its administrative review and rescinding the new shipper review of the antidumping duty order on freshwater crawfish tail meat from the People's Republic of China (PRC) for the period September 1, 2012, through August 31, 2013.

DATES: Effective Date: May 9, 2014.

FOR FURTHER INFORMATION CONTACT: Hermes Pinilla or Minoo Hatten, AD/CVD Operations Office I, Enforcement and Compliance, International Trade Administration, U.S. Department of Commerce, 14th Street and Constitution Avenue NW., Washington, DC 20230; telephone: (202) 482-3477 and (202) 482-1690 respectively.

SUPPLEMENTARY INFORMATION:

Background

On September 3, 2013, we published a notice of opportunity to request an administrative review of the antidumping duty order on freshwater crawfish tail meat from the PRC for the period of review (POR) September 1, 2012, through August 31, 2013.¹ On November 8, 2013, in response to requests from the petitioner, Crawfish Processors Alliance (CPA), and Chinese producers and exporters of subject merchandise, Hubei Zhenghe Food Co., Ltd. (Hubei Zhenghe) and Xiping Opeck Food Co., Ltd. (Xiping Opeck), and in accordance with section 751(a) of the Tariff Act of 1930, as amended (the Act) and 19 CFR 351.221(c)(1)(i), we initiated an administrative review of the order on freshwater crawfish tail meat from the PRC with respect to eight companies: China Kingdom (Beijing) Import & Export Co., Ltd. (China Kingdom); Deyan Aquatic Products and Food Co., Ltd. (Deyan Aquatic); Hubei Zhenghe, Shanghai Ocean Flavor International Trading Co., Ltd. (Shanghai Ocean Flavor); Nanjing Gemsen International Co., Ltd. (Nanjing Gemsen); Xiping Opeck; Xuzhou Jinjiang Foodstuffs Co., Ltd. (Xuzhou Jinjiang); and Yancheng Hi-King Agriculture Developing Co., Ltd. (Yancheng Hi-King).²

¹ See Antidumping or Countervailing Duty Order, Finding, or Suspended Investigation; Opportunity To Request Administrative Review, 78 FR 54235 (September 3, 2013).

² See Initiation of Antidumping and Countervailing Duty Administrative Reviews and Request for Revocation in Part, 78 FR 67104 (November 8, 2013).

On November 14, 2013, in response to requests from Hubei Nature Agriculture Industry Co., Ltd. (Hubei Nature) and Hubei Zhenghe, Chinese producers and exporters of subject merchandise, and in accordance with section 751(a)(2)(B) of the Act and 19 CFR 351.214 and 351.221(c)(1)(i), we initiated new shipper reviews of the order on freshwater crawfish tail meat from the PRC with respect to these two companies for the POR September 1, 2012, through August 31, 2013.³

³ See Freshwater Crawfish Tail Meat From the People's Republic of China: Initiation of Antidumping Duty new Shipper Reviews, 78 FR 68411 (November 14, 2013).

On January 6, 2014, Hubei Zhenghe withdrew its request for an administrative review.⁴ On January 13, 2014, Hubei Zhenghe withdrew its request for a new shipper review.⁵ On February 6, 2014, the CPA withdrew its request for an administrative review on six companies: China Kingdom; Deyan Aquatic; Nanjing Gemsen; Shanghai Ocean Flavor; Xuzhou Jinjiang; and Yancheng Hi-King.⁶

⁴ See letter from Hubei Zhenghe to the Department, “Withdrawal of Review Request in Administrative Review of the Antidumping Duty Order on Freshwater Crawfish Tail Meat From the People's Republic of China, 09/01/2012-08/31/13” (January 6, 2014).

⁵ See letter from Hubei Zhenghe to the Department, “Withdrawal of Review Request in the New Shipper Review of the Antidumping Duty Order on Freshwater Crawfish Tail Meat from the People's Republic of China, 09/01/12-08/31/13” (September 30, 2013).

⁶ See letter from the CPA to the Department, “Freshwater Crawfish Tail Meat From the People's Republic of China: 2012-13 Administrative Review” (February 6, 2014).

Partial Rescission of Administrative Review and Rescission of New Shipper Review

Pursuant to 19 CFR 351.213(d)(1), the Department will rescind an administrative review, “in whole or in part, if a party that requested a review withdraws the request within 90 days of the date of publication of notice of initiation of the requested review.” The CPA withdrew its request for an administrative review, covering six companies of the seven companies for which it requested a review, within the 90-day time limit, and Hubei Zhenghe withdrew its request for an administrative review and new shipper review within the 90-day time limit. Because we received timely withdrawal requests from the CPA and Hubei Zhenghe, we are partially rescinding the administrative review with respect to China Kingdom, Deyan Aquatic, Nanjing Gemsen, Shanghai Ocean Flavor, Xuzhou Jinjiang, Yancheng Hi-King and Hubei Zhenghe, and rescinding the new shipper review of Hubei Zhenghe with respect to the order. This rescission is in accordance with 19 CFR 351.213(d)(1).

Accordingly, the Department intends to issue appropriate assessment instructions to U.S. Customs and Border Protection 15 days after publication of this notice.

Notifications

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: May 6, 2014.
Christian Marsh,
Deputy Assistant Secretary for Antidumping and Countervailing Duty Operations.

[FR Doc. 2014-10712 Filed 5-8-14; 8:45 am]

BILLING CODE 3510-DS-P